SECURITIES AND EXCHANGE COMMISSION

[File No. 500-1]

eConnect; Order of Suspension of Trading

July 25, 2002.

It appears to the Securities and Exchange Commission that there is a lack of current and accurate information concerning the securities of eConnect, a Nevada corporation. Questions have been raised about the accuracy of publicly disseminated information concerning, among other things, the value of an investment of corporate bonds in eConnect by another company; the projected opening date of Bank eConnect; the value of a purchase order from another company for eConnect's eCashPads and the ability of that company to pay for the eCashPads.

The Commission is of the opinion that the public interest and the protection of investors require a suspension of trading in the securities of the above-listed company.

Therefore, it is ordered, pursuant to section 12(k) of the Securities Exchange Act of 1934, that trading in the above listed company is suspended for the period from 9:30 a.m. EDT, July 25, 2002, through 11:59 p.m. EDT, on August 7, 2002.

By the Commission.
Margaret H. McFarland,
Deputy Secretary.

[FR Doc. 02-19219 Filed 7-25-02; 12:31 pm]

BILLING CODE 8010-01-P